DEPARTMENT OF THE INTERIOR

Bureau of Land Management

[UT-110-05-1220-PM]

Notice of Travel Restriction and Seasonal Closure to OHVs

AGENCY: Bureau of Land Management, Interior

ACTION: Notice of off-highway vehicle (OHV) travel restriction and seasonal closure to motorized use in the Hog Canyon and Trail Canyon areas, Bureau of Land Management, Kanab Field Office, Utah

SUMMARY: Notice is hereby given that effective immediately, the Bureau of Land Management (BLM), Kanab Field Office, is restricting OHV travel on 7,924 acres of public lands near Kanab, Utah. The public lands affected by this restriction are located in portions of T. 43 S., R. 5 W.; T. 43 S., R. 6 W.; and T. 43 S., R. 7 W., Salt Lake Meridian. The purpose of the restriction and seasonal closure is to protect soil, vegetation, wildlife, cultural, and riparian area resources that have been adversely impacted or are at risk of being adversely impacted by OHV use. This restriction and seasonal closure will remain in effect until the considerable adverse effects giving rise to the restriction and seasonal closure are eliminated and measures are implemented to prevent recurrence of these adverse effects.

DATES: This notice is effective immediately and shall remain in effect until the adverse effects have been eliminated and measures implemented to prevent recurrence.

FOR FURTHER INFORMATION CONTACT: Tom Christensen, Outdoor Recreation Planner, BLM Kanab Field Office, 318 North 100 East, Kanab, Utah 84741; Phone (435) 644-4600.

SUPPLEMENTARY INFORMATION: In 1981, the Vermilion Management Framework Plan (MFP) designated the majority of public lands managed by the BLM Kanab Field Office as “open” to off-road vehicle (i.e., off-highway vehicle) use. Since that time, improvements to OHV and all-terrain vehicle design, capability, affordability and popularity have led to more numerous and widespread presence of these motorized vehicles. Hog Canyon and Trail Canyon are in the immediate vicinity of Kanab, Utah. Their proximity to town and highly scenic values have led to increasing OHV use in these areas. This increased use is creating adverse impacts to riparian, soil, vegetation, wildlife, and cultural resources. These impacts are occurring on existing routes as well as on a proliferating network of new, user-created routes. Additionally, the recent discovery of an active raptor nest in the cliffs of Pugh Canyon, bordering Hog Canyon to the southeast, has led to concern over human impacts to this nesting pair.

New Travel Restriction and Seasonal Closure for Hog Canyon and Trail Canyon

OHV cross-country travel in this area is prohibited in Hog Canyon and Trail Canyon. Trail Canyon will be closed to OHV use. Travel by all motorized vehicles in Hog Canyon will be limited to specific identified routes (a map showing these routes is available in the BLM Kanab Field Office). Both canyons are public lands administered by the BLM's Kanab Field Office and are located in Kane County, Utah, north of the town of Kanab. This area includes approximately 30.9 miles of routes and 7,924 acres of public lands in portions of T. 43 S., R. 5 W.; T. 43 S., R. 6 W.; and T. 43 S., R. 7 W., Salt Lake Meridian.

An area on the north side of Pugh Canyon is now closed annually to motorized use between February 1 and August 31, to protect the fecundity of a breeding pair of raptors. To clarify recreation opportunities available in the area, the BLM will provide maps identifying routes upon which motorized travel is allowed and the location of the seasonal closure. The intent of this restriction is to protect natural and cultural resources from the adverse effects of OHV use.

Implementation

A map showing both Trail Canyon and the specific identified routes where OHV use is allowed in Hog Canyon as well as the location of the Hog Canyon seasonal closure area is available for public review at the BLM Kanab Field Office. The routes and closure area are also shown on a map on the BLM Kanab Field Office's Web site at http://www.ut.blm.gov/kanab_fo. The BLM will also provide public land users with a specific map of the identified routes within the Hog Canyon area on this Web site. Signs and maps will be posted at kiosks near major entry areas.

Authority: This restriction and seasonal closure notice is issued under the authority of 43 CFR 8341.2.

Violations of this restriction and seasonal closure are punishable by a fine not to exceed $1,000 or imprisonment not to exceed 12 months.

Persons who are administratively exempt from the restriction and seasonal closure contained in this notice include: any Federal, State or local officer or employee acting within the scope of their duties, members of any organized rescue or fire-fighting force in the performance of an official duty, and any person holding written authorization from the BLM.

Dated: July 8, 2005.
Rex Smart,
Field Manager, Kanab Field Office.

[FR Doc. 05-15813 Filed 8-9-05; 8:45 am]

BILLING CODE 4310-DQ-P